FEDERAL RESERVE SYSTEM

Change in Bank Control Notices; Acquisitions of Shares of a Savings and Loan Holding Company

The notificants listed below have applied under the Change in Bank Control Act (12 U.S.C. 1817(j)) and the Board's Regulation LL (12 CFR part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 6, 2015.

A. Federal Reserve Bank of Cleveland (Nadine Wallman, Vice President) 1455 East Sixth Street, Cleveland, Ohio 44101-2566:

1. Jane Houston McCready, Winchester, Kentucky; Sarah McCready Boston, New York, New York; and Louise French McCready Hart, New York, New York, as individuals and in their capacities as co-trustees of Marital Trust B which was created under the Richard F. McCready Revocable Trust Agreement; to acquire voting shares of WinFirst Financial Corporation, and thereby indirectly acquire voting shares of Winchester Federal Bank, both in Winchester, Kentucky.

Board of Governors of the Federal Reserve System, March 17, 2015.
Michael J. Lewandowski,
Associate Secretary of the Board.

[FR Doc. 2015-06399 Filed 3-19-15; 8:45 am]

BILLING CODE 6210-01-P